EXPORT-IMPORT BANK OF THE UNITED STATES

[Public Notice 2012-0535]

Application for Final Commitment for a Long-term Loan or Financial Guarantee in Excess of $100 million; 25 Day Comment Period

AGENCY: Export-Import Bank of the United States.

ACTION: Notice of 25 day comment period regarding an application for final commitment for a long-term loan or financial guarantee in excess of $100 million.

Reason For Notice: This Notice is to inform the public, in accordance with Section 3(c)(10) of the Charter of the Export-Import Bank of the United States (“Ex-Im Bank”), that Ex-Im Bank has received an application for final commitment for a long-term loan or financial guarantee in excess of $100 million (as calculated in accordance with Section 3(c)(10) of the Charter). Comments received within the comment period specified below will be presented to the Ex-Im Bank Board of Directors prior to final action on this Transaction.

Reference: AP086105XX.

Purpose and Use: Brief description of the purpose of the transaction:

To support the export of semiconductor manufacturing equipment to Germany.

Brief non-proprietary description of the anticipated use of the items being exported:

Equipment supports the manufacture of logic semiconductors.

To the extent that Ex-Im Bank is reasonably aware, the item(s) being exported may be used to produce exports or provide services in competition with the exportation of goods or provision of services by a United States industry.

Parties: Principal Suppliers: Applied Materials, Inc., KLA-Tencor Corporation, LAM Research International Sarl.

Obligor: GLOBALFOUNDRIES Inc.

Guarantor(s): GLOBALFOUNDRIES Singapore Pte. Ltd.; GLOBALFOUNDRIES Netherlands Holding B.V.; GLOBALFOUNDRIES U.S. Inc.; GLOBALFOUNDRIES Singapore (Tampines) Pte. Ltd.; GLOBALFOUNDRIES Management Services LLC & Co. KG; GLOBALFOUNDRIES Dresden Module One LLC; GLOBALFOUNDRIES Dresden Module One Holding GmbH; GLOBALFOUNDRIES Dresden Module One LLC & Co. KG; GLOBALFOUNDRIES Dresden Module Two LLC; GLOBALFOUNDRIES Dresden Module Two Holding GmbH; GLOBALFOUNDRIES Dresden Module Two LLC & Co. KG and any other relevant subsidiaries.

Description of Items Being Exported: Various semiconductor manufacturing equipment manufactured by Applied Materials, Inc., Axcelis Technologies, Inc., FEI Co., KLA-Tencor Corporation, Lam Research International Sarl, Novellus Systems, and Varian.

Information on Decision: Information on the final decision for this transaction will be available in the “Summary Minutes of Meetings of Board of Directors” on http://www.exim.gov/articles.cfm/board%20minute.

Confidential Information: Please note that this notice does not include confidential or proprietary business information; information which, if disclosed, would violate the Trade Secrets Act; or information which would jeopardize jobs in the United States by supplying information that competitors could use to compete with companies in the United States.

DATES: Comments must be received on or before November 26, 2012 to be assured of consideration before final consideration of the transaction by the Board of Directors of Ex-Im Bank.

ADDRESSES: Comments may be submitted through WWW.REGULATIONS.GOV.

Sharon A. Whitt,
Agency Clearance Officer.

[FR Doc. 2012-26728 Filed 10-30-12; 8:45 am]

BILLING CODE 6690-01-P